NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: November 17, 2005; 1 p.m. to 5:30 p.m. (EST). November 18, 2005; 8 a.m. to 12:30 p.m. (EST).

Place: National Science Foundation, 4201 Wilson Boulevard, Room 555-II.

Type of Meeting: Open.

Contact Person: Mary Ann Birchett, National Science Foundation, 4201 Wilson Boulevard, Arlington, VA 22230 (703) 292-8100.

Purpose of Meeting: To provide advice concerning issues related to the oversight, integrity, development and enhancement of NSF's business operations.

Agenda: November 17, 2005:

PM: Welcome and Introduction of new members; Updates—Office of Budget, Finance, and Award Management, Office of Information and Resource Management, Chief Information Officer activities. Presentation and Discussion—NSF Strategic Planning.

November 18, 2005:

AM: Review of Facilities Subcommittee meeting. Presentation and Discussion—Grants Management Line of Business, Center of Excellence; Meeting with NSF Director; Committee Discussion; Planning for next meeting; feedback; other business.

Dated: October 18, 2005.
Susanne Bolton,
Committee Management Officer.

[FR Doc. 05-21071 Filed 10-20-05; 8:45 am]

BILLING CODE 7555-01-M